DEPARTMENT OF DEFENSE

Department of the Army

Update to the October 24, 2016 Military Freight Traffic Unified Rules Publication (MFTURP) No. 1

AGENCY: Department of the Army, DoD.

ACTION: Notice.

SUMMARY: The Military Surface Deployment and Distribution Command (SDDC) is providing notice that it is releasing an updated MFTURP No. 1.

DATES: The update took effect June 24, 2019.

ADDRESSES: Submit comments to SDDC, G3, Domestic Carrier Management Branch, 1 Soldier Way, Building 1900W, ATTN: SDDC-AMSSD-OPM-MC, Scott AFB 62225. Request for additional information may be sent by email to: usarmy.scott.sddc.mbx.g3-domestic-mfturp@mail.mil.

FOR FURTHER INFORMATION CONTACT: G3, Domestic Carrier Management, 618-220-5554.

SUPPLEMENTARY INFORMATION: Reference: Military Freight Traffic Unified Rules Publications (MFTURP) No. 1. Background: The MFTURP No. 1 governs the purchase of surface freight transportation in the Continental United States (CONUS) by DoD using Federal Acquisition Regulation (FAR) exempt transportation service contracts.

Miscellaneous: This publication, as well as the other SDDC publications, can be accessed via the SDDC website at: https://www.sddc.army.mil/res/pages/pubs.aspx.

Jeff Olenick,
Chief, Movement Support.

[FR Doc. 2019-14964 Filed 7-12-19; 8:45 am]

BILLING CODE 5001-03-P